FEDERAL COMMUNICATIONS COMMISSION

[CG Docket 03-123; DA 04-2062]

Petition for Declaratory Ruling Filed Regarding Provision of Video Relay Service (VRS) Video Mail

AGENCY: Federal Communications Commission.

ACTION: Notice.

SUMMARY: In this document, the Commission addresses a Petition for Declaratory Ruling filed on March 31, 2004, by Hands On Video Relay Service, Inc. (HOVRS), requesting that the Commission declare that the provision of Video VRS Mail to deaf and hard of hearing persons is eligible for compensation from the Interstate TRS Fund.

DATES: Comments are due on or before August 15, 2004. Reply comments are due on or before August 30, 2004.

ADDRESSES: Federal Communications Commission, 445 12th Street, SW., Washington, DC 20554.

FOR FURTHER INFORMATION CONTACT: Cheryl King, (202) 418-2284 (voice), (202) 418-0416 (TTY), or e-mail cheryl.king@fcc.gov.

SUPPLEMENTARY INFORMATION: This is a summary of the Commission's Public Notice, DA 04-2062, released July 9, 2004. Interested parties may file comments in this proceeding on or before August 15, 2004 and reply comments may be filed on or before August 30, 2004. When filing comments, please reference CG Docket No. 03-123. Comments may be filed using the Commission's Electronic Comment Filing System (ECFS) or by filing paper copies. See Electronic Filing of Documents in Rulemaking Proceedings, 63 FR 24121, May 1, 1998. Comments filed through the ECFS can be sent as an electronic file via the Internet to http://www.fcc.gov/e-file/ecfs.html. Generally, only one copy of an electronic submission must be filed. In completing the transmittal screen, commenters should include their full name, Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

Parties who choose to file by paper must file an original and four copies of each filing. Filings can be sent by hand or messenger delivery, by electronic media, by commercial overnight courier, or by first-class or overnight U.S. Postal Services mail (although we continue to experience delays in receiving U.S. Postal Service mail). The Commission's contractor, Natek, Inc., will receive hand-delivered or messenger-delivered paper filings or electronic media for the Commission's Secretary at 236 Massachusetts Avenue, NE., Suite 110, Washington, DC 20002. The filing hours at this location are 8 a.m. to 7 p.m. All hand deliveries must be held together with rubber bands or fasteners. Any envelopes must be disposed of before entering the building. Commercial and electronic media sent by overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission, 445 12th Street, SW., Room TW-B204 Washington, DC 20554.

Parties who choose to file by paper should also submit their comments on diskette. These diskettes should be submitted, along with three paper copies, to: Dana Jackson, Consumer & Governmental Affairs Bureau, Disability Rights Office, 445 12th Street, SW., Room 6C-410, Washington DC 20554. Such a submission should be on a 3.5 inch diskette formatted in an IBM compatible format using Word 97 or compatible software. The diskette should be accompanied by a cover letter and should be submitted in “read only” mode. The diskette should be clearly labeled with the commenter's name, proceeding (including the lead docket number in this case, CG Docket No. 03-123, type of pleading (comment or reply comment), date of submission, and the name of the electronic file on the diskette. The label should also include the following phrase “Disk Copy—Not an Original.” Each diskette should contain only one party's pleadings, preferably in a single electronic file. In addition, commenters must send diskette copies to the Commission's duplicating contractor, Best Copy and Printing, Inc. (BCPI), Portals II, 445 12th Street, SW., Room CY-B402, Washington, DC 20554. Pursuant to § 1.1206 of the Commission's rules, 47 CFR 1.1206, this proceeding will be conducted as a permit-but-disclose proceeding in which ex parte communications are subject to disclosure.

Copies of any subsequently filed documents in this matter will be available for public inspection and copying during regular business hours at the FCC Reference Information Center, Portals II, 445 12th Street, SW., Room CY-A257, Washington, DC 20554. The complete text of this Public Notice may be purchased from the Commission's duplicating contractor, BCPI, Portals II, 445 12th Street, SW., Room CY-B402, Washington, DC 20554, telephone (202) 863-2893, facsimile (202) 863-2898, or via e-mail at http://www.bcpiweb.com.

To request materials in accessible formats (such as Braille, large print, electronic files, or audio format), send an e-mail to fcc504@fcc.gov or call the Consumer & Governmental Affairs Bureau at (202) 418-0530 (voice) or (202) 418-0432 (TTY). This Public Notice can also be downloaded in Word and Portable Document Format at http://www.fcc.gov/cgb.dro.

Synopsis: As background, TRS, as mandated by Title IV of the Americans with Disabilities Act of 1990, makes the telephone system accessible to individuals with hearing or speech disabilities. See 47 U.S.C. 225. This is accomplished through TRS facilities that are staffed by specially trained CAs using special technology. The CA relays conversations between persons using various types of assistive communication devices and persons who do not require such assistive devices. VRS—Video Relay Service—is “a telecommunications relay service that allows people with hearing or speech disabilities who use sign language to communicate with voice telephone users with video equipment. The video link allows the [communications assistant] to view and interpret the party's signed conversation and relay the conversation back and forth with a voice caller.” 47 CFR 64.601(17). According to HOVRS, Video VRS Mail is a means by which hearing persons can have a VRS communications assistant send a message in video format (American Sign Language) to a deaf or hard of hearing VRS user who is not available to answer the call, so that the VRS user can retrieve the video message at a later time.

Federal Communications Commission.
P. June Taylor,
Chief of Staff, Consumer & Governmental Affairs Bureau.

[FR Doc. 04-16974 Filed 7-23-04; 8:45 am]

BILLING CODE 6712-01-P